DEPARTMENT OF TRANSPORTATION

Federal Highway Administration

Environmental Impact Statement: Hawai‘i County, HI

AGENCY: Federal Highway Administration (FHWA)—Central Federal Lands Highway Division (CFLHD), DOT.

ACTION: Notice of intent.

SUMMARY: FHWA-CFLHD is issuing this notice to advise the public that a supplemental environmental impact statement will be prepared for a proposed highway project in Hawai‘i County, Hawai‘i.

FOR FURTHER INFORMATION CONTACT: Ricardo Suarez, Division CFLHD Engineer, 12300 West Dakota Avenue, Lakewood, CO 80228 and/or Ronald F. Tsuzuki, State Department of Transportation, Highways Division, Planning Branch, 869 Punchbowl Street, Honolulu, HI 96813.

SUPPLEMENTARY INFORMATION: The FHWA, in consultation with the Hawaii Department of Transportation (HDOT), will prepare a supplemental environmental impact statement (SEIS) for an ongoing project to improve and realign the Saddle Road (State Highway 200), an existing highway in Hawai‘i County, Hawai‘i. The purpose of the project is to provide a safe and efficient route for access to land uses along Saddle Road and for cross-island traffic between East and West Hawai‘i. The ongoing and planned improvements to Saddle Road would also address five general types of needs: Roadway deficiencies, conflicts and hazards with military operations, capacity, safety, and social demand and economic development. The final environmental impact statement (EIS) for the project was completed August 9, 1999, and the Record of Decision (ROD) was signed on October 30, 1999. The project began construction in 2004 and approximately 30% of the project has been completed or is now under construction. In 2006, the Department of the Army (Army) purchased a Parker Ranch property known as the Ke‘āmuku parcel. This property included the area planned for the selected alternative (W-3) for western section of the Saddle Road. On September 6, 2006, the U.S. Army Garrison, Hawai‘i, requested that HDOT and FHWA consider relocating the highway about a mile southwest towards the southern boundary of Ke‘āmuku. This would allow the Army to maximize its training opportunities and minimize conflict with the traveling public. This request meets one of the original purposes of the Saddle Road EIS, which was to minimize conflict between civilian and military uses in the area, and FHWA and HDOT thus have determined that it is prudent to re-examine the alternatives for the western section of the EIS. Alternatives under consideration at this time include (1) taking no action; (2) using the alternative for the western section of the project that was recommended in the Final EIS and selected in the ROD; and (3) relocating this segment of the highway nearer the southern boundary of the Ke‘āmuku parcel. The SEIS will also reconfirm the reasons that alternatives for the western section were dropped from consideration in the original EIS, and reconsider them, if appropriate.

Because public scoping meetings for the Saddle Road Improvements project were held in Hilo, Kona and Waimea during the development of the original EIS, no additional scoping is required for an ongoing project, where an SEIS is prepared that does not involve a reassessment of the entire action. However, letters describing the proposed action and soliciting comments will be sent to appropriate Federal, State and local agencies, and to private organizations and citizens who have previously expressed or are known to have interest in this proposal. Public hearings will be held in both West and East Hawai‘i. Public notice will be given of the time and place of the hearings. The draft SEIS will be available for public and agency review and comment prior to the public hearing. To ensure that the full range of issues related to this proposed action are addressed and that all significant issues are identified, comments and suggestions are invited from all interested parties. Comments or questions concerning this proposed action and the SEIS should be directed to the FHWA-CFLHD or the HDOT at the addresses provided above.

(Catalog of Federal Domestic Assistance Program Number 20.205, Highway Planning and Construction. The regulations implementing Executive Order 12372 regarding intergovernmental consultation on Federal Programs and activities apply to this program)
Issued on: November 27, 2007.
Ricardo Suarez, P.E.,
Division Engineer, CFLHD.

[FR Doc. 07-5988 Filed 12-7-07; 8:45 am]

BILLING CODE 4910-22-M